FEDERAL COMMUNICATIONS COMMISSION

Notice of Public Information Collection(s) being Reviewed by the Federal Communications Commission, Comments Requested

June 29, 2001.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before September 7, 2001. If you anticipate that you will be submitting comments, but find it difficult to do so within the period of time allowed by this notice, you should advise the contact listed below as soon as possible.

ADDRESSES: Direct all comments to Les Smith, Federal Communications Commissions, 445 12th Street, SW., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0667.

Title: Section 76.1621 Equipment compatibility offer.

Form Number: N/A.

Type of Review: Extension of currently approved collection.

Respondents: Business or other for-profit entities.

Number of Respondents: 10,480.

Estimated Time Per Response: 1-3 hours.

Total Annual Burden: 10,515 hours.

Total Annual Costs: $5,300.

Needs and Uses: Section 76.1621 of the Commission's rules prohibits cable system operators from scrambling or otherwise encrypting signals carried on the basic service tier. However, cable system operators may file a waiver of this prohibition with the Commission. In addition, section 76.1621 requires cable system operators that use scrambling or encryption equipment to provide subscribers special equipment that will enable the reception of multiple signals. Section 76.1622 requires cable system operators to provide in writing a consumer education program concerning equipment compatibility. The Commission has set forth these disclosure requirements for consumer protection purposes to inform subscribers of compatibility matters, and notify subscribers of cable operator's requests to waive the prohibition on signal encryption.

OMB Control No.: 3060-0986.

Title: Federal-State Joint Board on Universal Service—Plan for Reforming the Rural Universal Service Support Mechanism, CC Docket No. 90-45.

Form No.: N/A.

Type of Review: Extension.

Respondents: Business or Other for Profit; State, Local or Tribal Government.

Number of Respondents: 7099.

Estimated Time Per Response: .81 hours per response (avg).

Total Annual Burden: 5770.

Estimated Annual Reporting and Recordkeeping Cost Burden: $0.

Frequency of Response: On occasion; Quarterly; Annually; One-Time Requirement; Third Party Disclosure.

Needs and Uses: In CC Docket 96-45, released May 23, 2001 (FCC 01-157), the Commission modified its rules for providing high cost universal service support to rural telephone companies for the next five years based upon the proposals made by the Rural Task Force. Carriers are required to elect one of three paths implementing rural high cost reform. Carriers electing Path One must certify that it will not disaggregate and target support. Carriers selecting Path Two must file a disaggregation plan. Carriers selecting Path Three must self-certify and provide a description of the rationale used to disaggregate support, including the methods and data and a discussion of how the plan complies with the self-certification guidelines, among other things. Rural carriers that elect to disaggregate and target per-line support under either Path Two or Three are required to report loops at the cost-zone level. States are required to file annual certifications to ensure that carriers use universal service support only for the provision, maintenance and upgrading of facilities and services for which the support is intended consistent with Section 254(e). The Commission requires the filing of line count data on a regular quarterly basis upon competitive entry into rural carrier study areas. Carriers must provide written notice in conjunction with their annual or quarterly submissions to NECA indicating that a study area meets the 14% TPIS trigger. Rural carriers must provide written notice when their index year has been established for the purposes of calculating eligibility for safety value support.

Federal Communications Commission.

Magalie Roman Salas,
Secretary.

[FR Doc. 01-17031 Filed 7-6-01; 8:45 am]

BILLING CODE 6712-01-P